DEPARTMENT OF ENERGY

Federal Energy Regulatory Commission

[Docket No. RP00-185-000]

Viking Gas Transmission Company; Notice of Proposed Change in FERC Gas Tariff

February 29, 2000.

Take notice that on February 25, 2000, Viking Gas Transmission Company (Viking) tendered for filing as part of its FERC Gas Tariff, First Revised Volume No. 1, Twenty-First Revised Sheet No. 6; Fourteenth Revised Sheet No. 6A; and Third Revised Sheet No. 6B, to become effective April 1, 2000.

Viking states that the purpose of this filing is to make Viking's annual adjustment to its Fuel and Loss Retention Percentages in accordance with Section 154.403 of the Commission's Rules and Regulations, 18 CFR 154.403 (1998) and Section 26 of the General Terms and Conditions of Viking's FERC Gas Tariff. Application of Section 26 of Viking's tariff results in the following new Fuel and Loss Retention Percentages for Rate Schedules FT-A, FT-B, FT-C, FT-D, IT and AOT respectively: 2.00 percent for Zone 1-1, 2.42 percent for Zone 1-2, and .43 percent for Zone 2-2. Viking states that copies of the filing have been mailed to all of its jurisdictional customers and to affected state regulatory commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-222 for assistance).

David P. Boergers,
Secretary.

[FR Doc. 00-5266 Filed 3-3-00; 8:45 am]

BILLING CODE 6717-01-M